ENVIRONMENTAL PROTECTION AGENCY

40 CFR Part 261

[EPA-HQ-RCRA-2016-0040; FRL-9947-60-OLEM]

Hazardous Waste Management System; Tentative Denial of Petition To Revise the RCRA Corrosivity Hazardous Characteristic

AGENCY: Environmental Protection Agency (EPA).

ACTION: Extension of comment period.

SUMMARY: The Environmental Protection Agency (EPA or the Agency) is extending the comment period on the tentative denial of a petition to revise the Resource Conservation and Recovery Act (RCRA) corrosivity hazardous waste characteristic regulation, published in the Federal Register on April 11, 2016. EPA is tentatively denying the rulemaking petition because the materials submitted in support of the petition fail to demonstrate that the requested regulatory revisions are warranted, as further explained in the tentative denial. The Agency's review of additional materials it identified as relevant to the petition similarly did not demonstrate that any change to the corrosivity characteristic regulation is warranted at this time. The comment period is being extended to December 7, 2016.

DATES: Comments must be received on or before December 7, 2016.

ADDRESSES: Submit your comments, identified by Docket ID No. EPA-HQ-RCRA-2016-0040, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www.epa.gov/dockets/commenting-epa-dockets.

FOR FURTHER INFORMATION CONTACT: Gregory Helms, Materials Recovery and Waste Management Division, Office of Resource Conservation and Recovery, (5304P), Environmental Protection Agency, 1200 Pennsylvania Avenue NW., Washington, DC 20460; telephone number: 703-308-8855; email address: helms.greg@epa.gov.

SUPPLEMENTARY INFORMATION: This document extends the public comment period on the tentative denial of a petition to revise the Resource Conservation and Recovery Act (RCRA) corrosivity hazardous waste characteristic regulation, published in the Federal Register on April 11, 2016 (81 FR 21295). In that Federal Register notice, the Agency tentatively denied petitioners' requests that the Agency make two changes to the current RCRA corrosivity characteristic regulation: (1) Revise the regulatory value for defining waste as corrosive from the current value of pH 12.5, to pH 11.5; and (2) expand the scope of the RCRA corrosivity definition to include nonaqueous wastes in addition to the aqueous wastes currently regulated. Petitioner-Public Employees for Environmental Responsibility (“PEER”) has requested that the Agency extend the public comment period to allow additional time to evaluate the record supporting the tentative denial. EPA is hereby extending the comment period, which was set to end on June 10, 2016, to December 7, 2016. Late comments on this tentative denial may not be considered.

To submit comments or access the docket, please follow the detailed instructions as provided under ADDRESSES. If you have questions, consult the individuals listed under FOR FURTHER INFORMATION CONTACT.

Dated: June 3, 2016.
Barnes Johnson,
Director, Office of Resource Conservation and Recovery, Office of Solid Waste and Emergency Response.

[FR Doc. 2016-13793 Filed 6-9-16; 8:45 am]

BILLING CODE 6560-50-P